DEPARTMENT OF ENERGY

Federal Energy Regulatory Commission

Quoddy Bay Pipeline LLC (Docket Nos. CP07-35-000, CP07-36-000, CP07-37-000) and Quoddy Bay LNG, L.L.C (Docket No. CP07-38-000); Notice of Application for Certificate of Public Convenience and Necessity and Section 3 Authorization

December 26, 2006.

Take notice that on December 15, 2006 Quoddy Bay Pipeline LLC (Quoddy Bay Pipeline), 210 Park Avenue, Suite 810, Oklahoma City, OK 73102, filed in Dockets No. CP07-35-000, CP07-36-000, and CP07-37-000 an application under Section 7 of the Natural Gas Act and Parts 157 and 284 of the Federal Energy Regulatory Commission's (“Commission”) regulations for, respectively, a certificate of public convenience and necessity authorizing the construction, installation, ownership, and operation of the Quoddy Bay pipeline; a blanket certificate to perform certain routine activities and operations; and a blanket certificate to provide open access firm transportation services. The proposed pipeline is approximately 36-miles long and 36 inches in diameter which will transport up to 2 Billion cubic feet (Bcf) per day of regasified liquefied natural gas from the terminal or storage facilities of Quoddy Bay LNG, L.L.C. in Washington County, Maine to an interconnect with the interstate pipeline of Maritimes and Northeast LLC in Princeton, Maine.

Also take notice that on December 15, 2006, Quoddy Bay LNG, L.L.C. (Quoddy Bay LNG), 210 Park Avenue, Suite 810, Oklahoma City, OK 73102, filed with the Commission, in Docket No. CP07-38-000, an application under section 3 of the Natural Gas Act and Part 153 of the Commission's regulations for authorization to site, construct, and operate a liquefied natural gas (LNG) terminal and associated storage facilities in Washington County, Maine, for the purpose of importing LNG into the United States. Quoddy Bay LNG also requests approval of the Import Terminal as the place of entry for imported LNG supplies.

The applications for Quoddy Bay Pipeline and Quoddy Bay LNG are more fully described as set forth in the applications that are on file with the Commission and open to public inspection. The instant filings may be also viewed on the Web at http://www.ferc.gov using the “eLibrary” link. Enter the docket number excluding the last three digits in the docket number field to access the document. For assistance, call (866) 208-3676 or TTY, (202) 502-8659.

Any questions regarding this application should be directed to: Brian Smith, Project Manager c/o Quoddy Bay LNG, L.L.C. 210 Park Avenue, Suite 810, Oklahoma City, OK 73102.

On January 11, 2006, the Commission staff granted Quoddy Bay LNG's request to utilize the Pre-Filing process and assigned Docket No. PF06-11-000 to staff activities involving the Quoddy Bay LNG import terminal project and Quoddy Bay Pipeline's proposed pipeline. Now, as of the filing of this application on December 15, 2006, the Pre-Filing Process for this project has ended. From this time forward, these proceedings will be conducted in Dockets No. CP07-35-000, CP07-36-000, CP07-37-000, and CP07-38-000 as noted in the caption of this Notice.

Pursuant to § 157.9 of the Commission's rules, 18 CFR. § 157.9, and to ensure compliance with the National Environmental Policy Act, 42 U.S.C. 4321-4347, the Commission staff will issue a Notice of Schedule for Environmental Review within 90 days of the date of this Notice. The Notice of Schedule for Environmental Review will indicate, among other milestones, the anticipated date for the Commission staff's issuance of the final environmental impact statement (FEIS) for the proposal. The Notice will also alert other agencies of the requirement to complete necessary reviews and authorizations within 90 days of the date of issuance of the Commission staff's FEIS.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: January 16, 2007.

Magalie R. Salas,
Secretary.

[FR Doc. E6-22526 Filed 1-3-07; 8:45 am]

BILLING CODE 6717-01-P